DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2015, through November 30, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of Title 44, United States Code, related to paperwork reduction, does not apply to information required for purposes of carrying out the Program.

Dated: December 18, 2015,
James Macraem
Acting Administrator,

List of Petitions Filed

1. Lori McNeal, Columbus, Ohio, Court of Federal Claims No: 15-1295V

2. Mary Lanciani, Sterling, Massachusetts, Court of Federal Claims No: 15-1296V

3. Nancy Burtis, Dresher, Pennsylvania, Court of Federal Claims No: 15-1298V

4. Felecia Brooks-Jones, Montgomery, Alabama, Court of Federal Claims No: 15-1299V

5. Jeffrey Prepejchal, Traverse City, Michigan, Court of Federal Claims No: 15-1302V

6. Jill Sadowsky, Chagrin Falls, Ohio, Court of Federal Claims No: 15-1303V

7. Juanita Messick, Oregon, Missouri, Court of Federal Claims No: 15-1305V

8. Giovanna Villaggio, Dallas, Texas, Court of Federal Claims No: 15-1306V

9. Christopher Harrelson, Washington, District of Columbia, Court of Federal Claims No: 15-1308V

10. Dale Pate, Chipley, Florida, Court of Federal Claims No: 15-1309V

11. Trevor Taylor, Ann Arbor, Michigan, Court of Federal Claims No: 15-1310V

12. Meghan Espinoza, Fort Worth, Texas, Court of Federal Claims No: 15-1311V

13. Alice Mulle, Savannah, Georgia, Court of Federal Claims No: 15-1312V

14. Paula Yeske, Chicago, Illinois, Court of Federal Claims No: 15-1313V

15. Jo-Ann Dodd, Elkview, West Virginia, Court of Federal Claims No: 15-1316V

16. Michael Mickas, Hickory Hills, Illinois, Court of Federal Claims No: 15-1317V

17. John Greeling, Jacksonville, Illinois, Court of Federal Claims No: 15-1318V

18. Jan Busiere, Bradenton, Florida, Court of Federal Claims No: 15-1319V

19. Esmeralda Morales, Plant City, Florida, Court of Federal Claims No: 15-1320V

20. Enos Wisniewski, Columbus, Ohio, Court of Federal Claims No: 15-1321V

21. Dana Riddle, Lucedale, Mississippi, Court of Federal Claims No: 15-1323V

22. David M. Reyburne, Richmond, Virginia, Court of Federal Claims No: 15-1325V

23. Marie E. Lemay, West Hartford, Connecticut, Court of Federal Claims No: 15-1326V

24. Lillian Rozanski, Chicago, Illinois, Court of Federal Claims No: 15-1327V

25. Karen Shock, Round Rock, Texas, Court of Federal Claims No: 15-1328V

26. Julie Rich, Champaign, Illinois, Court of Federal Claims No: 15-1329V

27. Richard Parker, Solomon's Island, Maryland, Court of Federal Claims No: 15-1331V

28. Andrew Fantini, Washington, District of Columbia, Court of Federal Claims No: 15-1332V

29. Marsha Dougherty, Logansport, Indiana, Court of Federal Claims No: 15-1333V

30. Sharyn Synnestvedt, Boulder, Colorado, Court of Federal Claims No: 15-1334V

31. Randall Rice, Lexington, Kentucky, Court of Federal Claims No: 15-1335V

32. Leonia Townsend, Hazel Crest, Illinois, Court of Federal Claims No: 15-1336V

33. Renee Lynn Pennington, Kansas City, Missouri, Court of Federal Claims No: 15-1337V

34. Jeff Weggen and Beth Qualls on behalf of S. W., Phoenix, Arizona, Court of Federal Claims No: 15-1338V

35. Kevin Finnegan, Ellicot City, Maryland, Court of Federal Claims No: 15-1340V

36. Sarah Stabenow, Beverly Hills, California, Court of Federal Claims No: 15-1341V

37. Simrat Suri, New Hyde Park, New York, Court of Federal Claims No: 15-1342V

38. James Jackson, Dacula, Georgia, Court of Federal Claims No: 15-1343V

39. Joan Witkowski, Amherst, Ohio, Court of Federal Claims No: 15-1345V

40. Amy Taylor on behalf of A. T., Cheyenne, Wyoming, Court of Federal Claims No: 15-1346V

41. Jeffrey Hunter, Ogden, Utah, Court of Federal Claims No: 15-1347V

42. Jeannie Onikama on behalf of I. O., Cheyenne, Wyoming, Court of Federal Claims No: 15-1348V

43. Mary Hammond, Johnston, Iowa, Court of Federal Claims No: 15-1350V

44. Gary D. Robinson, Dora, Alabama, Court of Federal Claims No: 15-1352V

45. David Wood, Westerly, Rhode Island, Court of Federal Claims No: 15-1354V

46. Devin Beck, Pittsburgh, Pennsylvania, Court of Federal Claims No: 15-1355V

47. Marsha Shoreman, Marlton, New Jersey, Court of Federal Claims No: 15-1355V

48. Priscilla Brierton, Fort Worth, Texas, Court of Federal Claims No: 15-1357V.

49. Carl Becker, Boca Raton, Florida, Court of Federal Claims No: 15-1358V

50. Michelle Leon, Oviedo, Florida, Court of Federal Claims No: 15-1360V

51. Merle Galper, Santa Monica, California, Court of Federal Claims No: 15-1361V

52. Angeline Howk, Glen Falls, New York, Court of Federal Claims No: 15-1362V

53. Arlene McFeely, Ocean Township, New Jersey, Court of Federal Claims No: 15-1367V

54. Erin Moore on behalf of P. C. S., San Francisco, California, Court of Federal Claims No: 15-1368V

55. Tom Crouch, Crownpoint, Indiana, Court of Federal Claims No: 15-1369V

56. Warran Fiske, Richmond, Virginia, Court of Federal Claims No: 15-1370V.

57. Michelle Handrow, Waupun, Wisconsin, Court of Federal Claims No: 15-1373V

58. Sandra Phillips, Washington, Pennsylvania, Court of Federal Claims No: 15-1374V

59. Diane Gail Strobel, Washington, District of Columbia, Court of Federal Claims No: 15-1375V

60. Naomi Yanagawa, Washington, New York, Court of Federal Claims No: 15-1376V

61. Tyler Jossart, Appleton, Wisconsin, Court of Federal Claims No: 15-1377V

62. Sharon Allen, Dallas, Texas, Court of Federal Claims No: 15-1378V

63. Barbara J. Smith, Norristown, Pennsylvania, Court of Federal Claims No: 15-1379V

64. Ansel Walters on behalf of Shakima Davis-Walters, Linwood, New Jersey, Court of Federal Claims No: 15-1380V

65. Janet Cakir on behalf of C A C, Raleigh, North Carolina, Court of Federal Claims No: 15-1383V

66. Donna Nawatny on behalf of David E Nawatny, Deceased, South Bend, Indiana, Court of Federal Claims No: 15-1384V

67. Valerie Robertson, Sewickley, Pennsylvania, Court of Federal Claims No: 15-1385V

68. Terri Davis, Sanford, North Carolina, Court of Federal Claims No: 15-1386V

69. Loralyn Webb on behalf of Chandler Blake Webb, Deceased, New York, New York, Court of Federal Claims No: 15-1387V,

70. Rita Dowaschinski, Jacksonville, Florida, Court of Federal Claims No: 15-1390V

71. Dawnita Noble, Linwood, New Jersey, Court of Federal Claims No: 15-1391V

72. Gail Boteler, Kenner, Louisiana, Court of Federal Claims No: 15-1392V

73. Angela R. Folkers, Urbandale, Iowa, Court of Federal Claims No: 15-1393V

74. Lora McMullen, Las Vegas, Nevada, Court of Federal Claims No: 15-1394V

75. Judith Semanisin, Phoenix, Arizona, Court of Federal Claims No: 15-1395V

76. Mirsa Joosten, Dallas, Texas, Court of Federal Claims No: 15-1396V

77. Susan Murphy, Middlebury, Connecticut, Court of Federal Claims No: 15-1398V

78. Deborah Vanderpool, Clinton, Washington, Court of Federal Claims No: 15-1400V

79. Robert Rowan, Newark, Delaware, Court of Federal Claims No: 15-1402V

80. Jeffrey Treadway, Mountain Home, Tennessee, Court of Federal Claims No: 15-1404V

81. Isabelle Cowans, Beverly Hills, California, Court of Federal Claims No: 15-1407V

82. Michael Ware, Buffalo, New York, Court of Federal Claims No: 15-1410V

83. Beverly A. Blakely, Oklahoma City, Oklahoma, Court of Federal Claims No: 15-1412V

84. Jeff Cardello, Phoenix, Arizona, Court of Federal Claims No: 15-1413V

85. Kimberly and David Tait on behalf of J T, Phoenix, Arizona, Court of Federal Claims No: 15-1414V

86. Kimberly Tait on behalf of D T, Phoenix, Arizona, Court of Federal Claims No: 15-1415V

87. Michael Bailey, Dublin, Ohio, Court of Federal Claims No: 15-1417V

88. Emanuel Woods, Los Angeles, California, Court of Federal Claims No: 15-1419V

89. Dennis D. Nelson, Laguna Hills, California, Court of Federal Claims No: 15-1423V

90. Ron Shackleford, Dallas, Texas, Court of Federal Claims No: 15-1424V

91. Marcella Bennett, Johnson City, Tennessee, Court of Federal Claims No: 15-1426V

92. James Patterson, Greensboro, North Carolina 27401, Court of Federal Claims No: 15-1428V

93. Katherine Doherty, Austin, Texas, Court of Federal Claims No: 15-1429V

94. Lori Hillstead, Sarasota, Florida, Court of Federal Claims No: 15-1430V

95. Laurie J. Ferenc, North Tonawanda, New York, Court of Federal Claims No: 15-1431V

96. Robert T. Ferenc, North Tonawanda, New York, Court of Federal Claims No: 15-1432V

97. Dwan Petti and Anthony Petti on behalf of M. J. P. Vienna, Virginia, Court of Federal Claims Number: 15-1433V

98. Zoe Wright, Quilcene, Washington, Court of Federal Claims No: 15-1436V

[FR Doc. 2015-32371 Filed 12-23-15; 8:45 am]

BILLING CODE 4165-15-P